DEPARTMENT OF AGRICULTURE

Food and Nutrition Service

Agency Information Collection Activities: Proposed Collection; Comment Request; Child and Adult Care Food Program: Increasing the Duration of Tiering Determinations for Day Care Homes

AGENCY: Food and Nutrition Service, USDA/FNS.

ACTION: Notice.

SUMMARY: In accordance with the Paperwork Reduction Act of 1995, this notice announces the Food and Nutrition Service (FNS) intention to request Office of Management and Budget (OMB) review of the information collection related to the Child and Adult Care Food Program, including adjustments to be made as a result of the final rule, Child and Adult Care Food Program: Increasing the Duration of Tiering Determinations for Day Care Homes.

DATES: To be assured of consideration, comments must be received by February 4, 2005.

ADDRESSES: Send comments and requests for copies of this information collection to: Mr. Keith Churchill, Policy and Program Development Branch, Child Nutrition Division, Food and Nutrition Service, U.S. Department of Agriculture, 3101 Park Center Drive, Room 636, Alexandria, Virginia 22302. Comments will also be accepted via E-Mail submission if sent to CNDPROPOSAL@FNS.USDA.GOV. Comments are invited on (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology.

All responses to this Notice will be summarized and included in the request for OMB approval, and will become a matter of public record.

FOR FURTHER INFORMATION: Contact Mr. Keith Churchill, (703) 305-2590.

SUPPLEMENTARY INFORMATION: Title: Child and Adult Care Food Program Regulations.

OMB Number: 0584-0055.

Expiration Date: June 30, 2007.

Type of Request: Revision of a currently approved collection.

Abstract: The Rule amends the Child and Adult Care Food Program (CACFP) regulations to implement Section 199(b) of the Child Nutrition and WIC Reauthorization Act of 2004, Public Law 108-265, which amended Section 17(f)(3)(E)(iii) of the Richard B. Russell National School Lunch Act (42 U.S.C. 1766(f)(3)(E)(iii) to increase the duration of the tiering status determinations from three to five years for family or group day care homes participating in CACFP. This change, which was effective on June 30, 2004, applies to tiering status determinations for day care homes located in the attendance areas of elementary schools in which at least half of the enrolled children are certified eligible to receive free or reduced price school meals. The change also applies to tiering determinations for day care homes operated by providers whose households meet the eligibility guidelines for free or reduced price school meals. Day care home providers receive higher reimbursement rates (tier 1) for CACFP meals served to children in care in those homes.

Estimate of Burden: This change reduces the number of respondents per year by 768.

Estimated Number of Respondents: 2,929,699 respondents.

Average Number of Responses per Respondent: 2.25 responses/respondent.

Estimated Total Annual Burden on Respondents: 5,781,262 burden hours.

Dated: November 24, 2004.
Roberto Salazar,
Administrator, Food and Nutrition Service.

[FR Doc. 04-26691 Filed 12-3-04; 8:45 am]

BILLING CODE 3410-30-P